DEFENSE NUCLEAR FACILITIES SAFETY BOARD

Sunshine Act Notice

AGENCY: Defense Nuclear Facilities Safety Board.

ACTION: Notice of public meeting.

SUMMARY: Pursuant to the provisions of the Government in the Sunshine Act, 5 U.S.C. 552b, notice is hereby given of the Defense Nuclear Facilities Safety Board's (Board) public business meeting described below. The Board invites any interested persons or groups to present any comments, technical information, or data concerning issues related to the matters to be considered.

DATES: 9:00 a.m.-3:00 p.m., June 3, 2015.

ADDRESSES: Defense Nuclear Facilities Safety Board, 625 Indiana Avenue NW., Room 352, Washington, DC 20004.

Status: Open. The Board has determined that an open meeting furthers the public interest underlying the Board's mission and the Government in the Sunshine Act.

Matters To Be Considered: The meeting will proceed in accordance with the meeting agenda, which is posted on the Board's public Web site at www.dnfsb.gov. The Board is expected to open the meeting with Board Member statements. The Board will then hear testimony from the three Office Directors. First, the General Manager will provide testimony on the existing Board performance metrics. Next, the Acting General Counsel will discuss existing Board policies and their underlying basis. Finally, the Technical Director will examine the Board's technical organizational structure and basis. The General Manager is then expected to provide an overview of planned responses to matters raised in recent organizational assessments conducted by outside entities. These include assessments by LMI and by the Nuclear Regulatory Commission Office of the Inspector General, which serves as the Board's inspector general. The Board will then entertain comments, if any, from the public. Following a lunch break, the Board is then expected to engage in deliberations in accordance with the Board's procedures concerning meetings. The open meeting will adjourn at 3:00 p.m.

FOR FURTHER INFORMATION CONTACT: Mark Welch, General Manager, Defense Nuclear Facilities Safety Board, 625 Indiana Avenue NW., Suite 700, Washington, DC 20004-2901, (800) 788-4016. This is a toll-free number.

SUPPLEMENTARY INFORMATION: Public participation in the meeting is invited from 11:45 a.m. to 12:30 p.m. Requests to speak may be submitted in writing or by telephone. The Board asks that commenters describe the nature and scope of their oral presentations. Those who contact the Board prior to close of business on June 2, 2015, will be scheduled to speak. At the beginning of the meeting, the Board will post a schedule for speakers at the entrance to the meeting room. Anyone who wishes to comment or provide technical information or data may do so in writing, either in lieu of, or in addition to, making an oral presentation. Documents will be accepted at the meeting. The meeting record will close when the meeting is adjourned at 3:00 p.m. The meeting will be presented live through Internet video streaming. A link to the meeting will be available on the Board's Web site (www.dnfsb.gov). A transcript of the meeting, along with a DVD video recording, will be made available by the Board for viewing on the Board's public Web site, and in the reading room of the Board's Washington, DC office.

Date: May 18, 2015.
Jessie H. Roberson,
Vice Chairman.

[FR Doc. 2015-12393 Filed 5-19-15; 4:15 pm]

BILLING CODE 3670-01-P